DEPARTMENT OF COMMERCE

National Oceanic and Atmospheric Administration

[RTID 0648-XD362]

Mid-Atlantic Fishery Management Council (MAFMC); Public Meetings

AGENCY: National Marine Fisheries Service (NMFS), National Oceanic and Atmospheric Administration (NOAA), Commerce.

ACTION: Notice of public meetings.

SUMMARY: The Mid-Atlantic Fishery Management Council (Council) will hold public meetings of the Council and its Executive Committee.

DATES: The meetings will be held Tuesday, October 3 through Friday, October 5, 2023. For agenda details, see SUPPLEMENTARY INFORMATION.

ADDRESSES: This meeting will be an in-person meeting with a virtual option. Council members, other meeting participants, and members of the public will have the option to participate in person at the Yotel New York or virtually via Webex webinar. Webinar connection instructions and briefing materials will be available at: https://www.mafmc.org/briefing/october-2023.

Council address: Mid-Atlantic Fishery Management Council, 800 N State St., Suite 201, Dover, DE 19901; telephone: (302) 674-2331; www.mafmc.org.

FOR FURTHER INFORMATION CONTACT: Christopher M. Moore, Ph.D., Executive Director, Mid-Atlantic Fishery Management Council; telephone: (302) 526-5255. The Council's website, www.mafmc.org, also has details on the meeting location, proposed agenda, webinar listen-in access, and briefing materials.

SUPPLEMENTARY INFORMATION: The following items are on the agenda, although agenda items may be addressed out of order (changes will be noted on the Council's website when possible).

Tuesday, October 3rd

Executive Committee—Open Session

Review progress on 2023 Implementation Plan

Review and approve draft 2024 deliverables

Council Convenes

Monkfish and Dogfish Joint Framework To Reduce the Bycatch of Atlantic Sturgeon

Review joint Dogfish and Monkfish Committee recommendations

Review and approve range of Dogfish and Monkfish alternatives

Illex Hold Framework #2: Final Action

Review recommendations from the Committee and Advisory Panel

Select preferred alternatives and take final action

Wednesday, October 4th

Northeast Fishery Science Center (NEFSC) Federal Surveys: Survey Performance, Issues, and Planning for the Future—Dr. Kathryn Ford and Peter Chase, NEFSC

Overview of NOAA Ship Henry B. Bigelow bottom trawl survey, R/V Hugh R. Sharp Scallops Survey, and other NEFSC surveys

Past survey performance, 2023 survey issues, contingency plans, and future scheduling

Policy/Process for Reviewing Exempted Fishing Permit Applications for Unmanaged Forage Amendment Ecosystem Component Species

Review draft policy/process document

Review recommendations from EOP Committee and Advisory Panel

Approve policy/process

Offshore Wind Energy Development

Updates from the Bureau of Ocean Energy Management

Updates from the New York State Energy Research and Development Authority (NYSERDA)—Offshore Wind Master Plan 2.0 (Deepwater)

——— Lunch ———

Ecosystem Approach to Fisheries Management (EAFM) Risk Assessment Review

Review recommendations from EOP Committee and Advisory Panel

Approve modifications to EAFM risk assessment

Private Recreational Tilefish Permitting and Reporting

Receive update from GARFO on recreational tilefish permitting and reporting

Discuss communication and outreach efforts

Habitat Activities Update—Karen Greene, Greater Atlantic Regional Fisheries Office Habitat and Ecosystem Services Division

Presentation on activities of interest (aquaculture, wind, and other projects) in the region

NEFSC Observer Program Update—Katherine McArdle, NEFSC

Review recent program performance and modifications

Review recent changes in tasked seadays resulting from the first Standardized Bycatch Reduction Methodology (SBRM) discard analysis conducted since COVID-19 disruptions

Review planned outreach

NEFSC Cooperative Research Update—Dr. Anna Mercer, NEFSC

Review the Cooperative Research Branch's portfolio, focusing on new research and outreach initiatives

Assessment and Peer Review Overviews—Spiny Dogfish and Atlantic Mackerel

Review recent developments that will inform Council actions in December 2023

NEFSC Presentation on Maternal Effects (i.e. the potential importance of larger females for resilient fisheries)—Mark Wuenschel and Richard McBride, NEFSC

Review relevant NEFSC research activities

Consider potential implications for assessment and management

Thursday, October 5th

Business Session

Committee Reports (SSC, Monkfish); Executive Director's Report; Organization Reports; and Liaison Reports

Other Business and General Public Comment

Although non-emergency issues not contained in this agenda may come before this group for discussion, in accordance with the Magnuson-Stevens Fishery Conservation and Management Act (Magnuson-Stevens Act), those issues may not be the subject of formal action during these meetings. Actions will be restricted to those issues specifically identified in this notice and any issues arising after publication of this notice that require emergency action under section 305(c).

Special Accommodations

These meetings are physically accessible to people with disabilities. Requests for sign language interpretation or other auxiliary aid should be directed to Shelley Spedden, (302) 526-5251, at least 5 days prior to the meeting date.

Authority: 16 U.S.C. 1801 et seq.

Dated: September 12, 2023.
Diane M. DeJames-Daly,
Acting Deputy Director, Office of Sustainable Fisheries, National Marine Fisheries Service.

[FR Doc. 2023-20032 Filed 9-14-23; 8:45 am]

BILLING CODE 3510-22-P